OFFICE OF PERSONNEL MANAGEMENT

Senior Executive Service—Performance Review Board

AGENCY: Office of Personnel Management.

ACTION: Notice.

SUMMARY: Notice is hereby given of the appointment of members of the OPM Performance Review Board.

FOR FURTHER INFORMATION CONTACT: Sara Saphos, OPM Human Resources, Office of Personnel Management, 1900 E Street NW., Washington, DC 20415, (202) 606-1402.

SUPPLEMENTARY INFORMATION: Section 4314(c)(1) through (5) of Title 5, U.S.C., requires each agency to establish, in accordance with regulations prescribed by the Office of Personnel Management, one or more SES performance review boards. The board reviews and evaluates the initial appraisal of a senior executive's performance by the supervisor, and considers recommendations to the appointing authority regarding the performance of the senior executive.

U.S. Office of Personnel Management.
John Berry,
Director.

The following have been designated as members of the Performance Review Board of the U.S. Office of Personnel Management:

Elizabeth A. Montoya, Chief of Staff

Elaine D. Kaplan, General Counsel

Angela S. Bailey, Associate Director of Employee Services

Mark W. Lambert, Associate Director of Merit System Audit and Compliance

Jonathan Foley, Director of Planning and Policy Analysis

Joseph S. Kennedy, Deputy Associate Director of Employee Services

Charles D. Grimes, III, Chief Operating Officer

Mark D. Reinhold, Deputy Associate Director for OPM Human Resources—Executive Secretariat

[FR Doc. 2012-26615 Filed 11-1-12; 8:45 am]

BILLING CODE 6325-45-P